DEPARTMENT OF THE TREASURY

Internal Revenue Service

Internal Revenue Service Advisory Council; Meeting

AGENCY: Internal Revenue Service, Department of Treasury.

ACTION: Notice of meeting.

SUMMARY: The Internal Revenue Service Advisory Council will hold a public meeting.

DATES: The meeting will be held Wednesday, July 13, 2022.

ADDRESSES: The meeting will be held via conference call.

FOR FURTHER INFORMATION CONTACT: Ms. Stephanie Burch, Office of National Public Liaison, at 202-317-4219 or send an email to PublicLiaison@irs.gov.

SUPPLEMENTARY INFORMATION: Notice is hereby given pursuant to section 10(a) (2) of the Federal Advisory Committee Act, 5 U.S.C. app. (1988), that a public meeting of the Internal Revenue Service Advisory Council (IRSAC) will be held on Wednesday, July 13, 2022, to discuss topics that may be recommended for inclusion in a future report of the Council. The meeting will take place 3:00-4:00 p.m. Eastern Daylight Time.

The meeting will be held via conference call. To register, members of the public may contact Ms. Stephanie Burch at 202-317-4219 or send an email to PublicLiaison@irs.gov. Attendees are encouraged to join at least 5-10 minutes before the meeting begins.

Time permitting, after the close of this discussion by IRSAC members, interested persons may make oral statements germane to the Council's work. Persons wishing to make oral statements should contact Ms. Stephanie Burch at PublicLiaison@irs.gov and include the written text or outline of comments they propose to make orally. Such comments will be limited to five minutes in length. In addition, any interested person may file a written statement for consideration by the IRSAC by sending it to PublicLiaison@irs.gov.

Dated: June 22, 2022.
John A. Lipold,
Designated Federal Officer, Internal Revenue Service Advisory Council.

[FR Doc. 2022-13851 Filed 6-28-22; 8:45 am]

BILLING CODE P